ENVIRONMENTAL PROTECTION AGENCY

[FRL-7049-9]

Agency Information Collection Activities: Submission for OMB Review; Comment Request; Underground Storage Tanks: Technical and Financial Requirements, and State Program Approval Procedures

AGENCY: Environmental Protection Agency (EPA).

ACTION: Notice.

SUMMARY: In compliance with the Paperwork Reduction Act (44 U.S.C. 3501 et seq., this document announces that the following Information Collection Request (ICR) has been forwarded to the Office of Management and Budget (OMB) for review and approval: Underground Storage Tanks, Technical and Financial Requirements, and State Program Approval Procedures, OMB Control Number 2050-0068, which expires on September 30, 2001. The ICR describes the nature of the information collection and its expected burden and cost; where appropriate, it includes the actual data collection instrument.

DATES: Comments must be submitted on or before October 9, 2001.

ADDRESSES: Send comments, referencing EPA ICR No. 1360.06 and OMB Control No. 2050-0068, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.Sandy@epa.gov, or download off the Internet at http://www.epa.gov/icr and refer to EPA ICR No. 1360.06. For technical questions about the ICR contact Sammy Ng at the Office of Underground Storage Tanks (OUST) by phone at (703) 603-9900 or by E-mail at Ng.Sammy@epa.gov.

SUPPLEMENTARY INFORMATION: Title: Underground Storage Tanks, Technical and Financial Requirements and State Program Approval Procedures, OMB Control Number 2050-0068, EPA ICR Number 1360.06, expiring on September 30, 2001. This is a request for extension of a currently approved collection.

Abstract: Subtitle I of the Resource Conservation and Recovery Act (RCRA), as amended, requires that the EPA develop standards for Underground Storage Tanks (UST) systems as may be necessary to protect human health and the environment, and procedures for approving State programs in lieu of the Federal program. EPA promulgated technical and financial requirements for owners and operators of USTs at 40 CFR part 280, and State program approval procedures at 40 CFR part 281. This ICR is a comprehensive presentation of all information collection requirements contained at 40 CFR parts 280 and 281. The data collected under 40 CFR part 280 are used by the owners and operators and/or EPA or the implementing agency to monitor results of testing, inspections, and operations of UST systems, as well as to demonstrate compliance with regulations. EPA believes strongly that, if the minimum requirements specified under the regulations are not met, neither the facilities nor EPA can ensure that UST systems are being managed in a manner protective of human health and the environment. The data collected under 40 CFR part 281 are used by EPA to determine whether to approve a State program. Before granting approval, EPA must determine that programs will be no less stringent than the Federal program and contain adequate enforcement mechanisms.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on March 19, 2001 (66 FR 15423); no comments were received.

Burden Statement: For UST facilities, the annual reporting and recordkeeping burden is estimated to average 23 hours per respondent. For States applying for program approval, the annual reporting and recordkeeping burden is estimated to average 48 hours per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this information collection are those facilities that own and operated USTs and those States that implement the UST programs.

Estimated Number of Respondents: 261,904.

Frequency of Response: As needed.

Estimated Total Annual Burden: 6,025,543 hours.

Estimated Total Annualized Capital, O&M Cost Burden: $363.56 million.

Send comments on the Agency's need for this information, the accuracy of the provided burden estimates, and any suggested methods for minimizing respondent burden, including through the use of automated collection techniques to the addresses listed above. Please refer to EPA ICR No. 1360.06 and OMB Control No. 2050-0068 in any correspondence.

Dated: August 27, 2001.
Oscar Morales,
Director, Collection Strategies Division.

[FR Doc. 01-22378 Filed 9-5-01; 8:45 am]

BILLING CODE 6560-50-P